DEPARTMENT OF COMMERCE

International Trade Administration

[A-489-826]

Certain Hot-Rolled Steel Flat Products From the Republic of Turkey: Preliminary Results of Antidumping Duty Administrative Review and Preliminary Determination of No Shipments; 2018-2019

AGENCY: Enforcement and Compliance, International Trade Administration, Department of Commerce.

SUMMARY: The Department of Commerce (Commerce) preliminarily determines that seven companies, including the sole mandatory respondent, Habas Sinai ve Tibbi Gazlar Istihsal Endustrisi A.S. (Habas), a producer and exporter of certain hot-rolled steel flat products (hot-rolled steel) from the Republic of Turkey (Turkey), sold subject merchandise in the United States at prices below normal value during the period of review (POR) October 1, 2018, through September 30, 2019. In addition, Commerce preliminarily determines that six exporters had no shipments during the POR. Lastly, on May 15, 2020, Commerce discontinued the review initiated for Colakoglu Metalurji, A.S., and Colakoglu Dis Ticaret A.S. We invite all interested parties to comment on these preliminary results.

DATES: Applicable February 24, 2021.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

Commerce is conducting an administrative review of the antidumping duty order on hot-rolled steel from Turkey,¹ in accordance with section 751(a)(1)(B) of Tariff Act of 1930, as amended (the Act). On December 11, 2019, in accordance with 19 CFR 351.221(c)(1)(i), we initiated this administrative review of the Order covering thirteen producers and/or exporters of the subject merchandise.² On May 15, 2020, Commerce selected Habas as the sole mandatory respondent.³

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order); See also Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020) (Timken Notice).

² See Initiation of Antidumping and Countervailing Duty Administrative Reviews, 84 FR 67712 (December 11, 2019) (Initiation Notice).

³ See Memorandum, “Respondent Selection Memorandum for Administrative Review of Antidumping Duty Order on Certain Hot-Rolled Steel Flat Products from the Republic of Turkey; 2018-2019,” dated May 15, 2020.

On April 24, 2020, Commerce tolled all deadlines in administrative reviews by 50 days.⁴ Subsequently, on July 21, 2020, Commerce tolled all deadlines in administrative reviews by an additional 60 days.⁵ On October 2, 2020, we postponed the preliminary results of this review until February 17, 2021.⁶ For a detailed description of the events that followed the initiation of this review, see the Preliminary Decision Memorandum, dated concurrently with these preliminary results and hereby adopted by this notice.⁷

⁴ See Memorandum, “Tolling of Deadlines for Antidumping and Countervailing Duty Administrative Reviews in Response to Operational Adjustments Due to COVID-19,” dated April 24, 2020.

⁵ See Memorandum, “Tolling of Deadlines for Antidumping and Countervailing Duty Administrative Reviews,” dated July 21, 2020.

⁶ See Memorandum, “Certain Hot-Rolled Steel Flat Products from the Republic of Turkey: Antidumping Duty Administrative Review; 2018-2019; Extension of Deadline for Preliminary Results,” dated October 2, 2020.

⁷ See Memorandum, “Decision Memorandum for the Preliminary Results of Antidumping Duty Administrative Review and Preliminary Determination of No Shipments: Certain Hot-Rolled Steel Flat Products from Turkey; 2018-2019,” dated concurrently with, and hereby adopted by, this notice (Preliminary Decision Memorandum).

Scope of the Order

The merchandise covered by the Order is certain hot-rolled steel flat products. For a complete description of the scope of the Order, see the Preliminary Decision Memorandum.⁸

⁸ Id.; see also Order.

Methodology

Commerce is conducting this review in accordance with section 751(a) of the Act. Export prices are calculated in accordance with section 772 of the Act and normal value is calculated in accordance with section 773 of the Act. For a full description of the methodology underlying these preliminary results, see the Preliminary Decision Memorandum. A list of topics discussed in the Preliminary Decision Memorandum is attached as an Appendix to this notice.

The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

Preliminary Determination of No Shipments

Six producers and/or exporters properly filed a certification reporting that they made no shipments of subject merchandise during the POR: (1) Agir Haddecilik A.S. (Agir); (2) Eregli Demir ve Celik Fabrikalari T.A.S. and (3) Iskenderun Iron & Steel Works Ltd. (a/k/a/Iskenderun Demir ve Celik A.S.) (collectively, Erdemir Group); ⁹ (4) Gazi Metal Mamulleri Sanayi ve Ticaret A.S. (Gazi); (5) Seametal Sanayi ve Dis Ticaret Limited Sirketi (Seametal) ¹⁰; and (6) Tosyali Holding (Toscelik Profile and Sheet Ind. Co., Toscelik Profil ve Sac A.S.). U.S. Customs and Border Protection (CBP) did not have any information to contradict these claims of no shipments during the POR.¹¹ Therefore, we preliminarily determine that these companies did not have shipments of subject merchandise during the POR. Consistent with Commerce's practice,¹² Commerce finds that it is not appropriate to rescind the review with respect to these six companies, but rather to complete the review and issue appropriate instructions to CBP based on the final results of this review.

⁹ In the underlying investigation, Commerce collapsed Eregrli Demir ve Celik Fabrikalari T.A.S. and Iskenderun Iron & Steel Works Co. (collectively, Erdemir Group) as a single entity. See Certain Hot-Rolled Steel Flat Products from the Republic of Turkey: Affirmative Preliminary Determination of Sales at Less Than Fair Value and Postponement of Final Determination, 81 FR 15231 (March 22, 2016), and accompanying Preliminary Decision Memorandum at 6, unchanged in Certain Hot-Rolled Steel Flat Products from the Republic of Turkey: Final Determination of Sales at Less Than Fair Value, 81 FR 53428 (August 12, 2016).

¹⁰ In Commerce's Initiation Notice, this company was referred to as Seametal San ve Dis Tic. The two names refer to the same company.

¹¹ See Preliminary Decision Memorandum at 4.

¹² See, e.g., Heavy Walled Rectangular Welded Carbon Steel Pipes and Tubes from the Republic of Turkey: Preliminary Results of Antidumping Duty Administrative Review and Preliminary Determination of No Shipments; 2017-2018, 84 FR 34863 (July 19, 2019), and accompanying Preliminary Decision Memorandum at 4.

Discontinuation of Administrative Review

On May 15, 2020, Commerce discontinued this review with respect to Colakoglu Metalurji, A.S., and Colakoglu Dis Ticaret A.S., based on the final judgment of the U.S. Court of International Trade in the litigation associated with the underlying less-than-fair-value investigation.¹³

¹³ See Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020).

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

¹⁴ This rate is based on the rates for the respondents that were selected for individual review, excluding rates that are zero, de minimis, or based entirely on facts available. See section 735(c)(5)(A) of the Act. See Memorandum, “Final Results of the Antidumping Administrative Review of Heavy Walled Rectangular Welded Carbon Steel Pipes and Tubes from the Republic of Korea: Calculation of the Cash Deposit Rate for Non-Reviewed Companies,” dated July 6, 2020.

In this review, we have preliminarily calculated a weighted-average dumping margin for Habas that is not zero, de minimis, or determined entirely on the basis of facts available. Accordingly, we have preliminarily assigned to the companies not individually examined a weighted-average dumping margin of 21.48 percent, which is the weighted-average dumping margin calculated for Habas.

Preliminary Results

We preliminarily determine the following weighted-average dumping margins for the period October 1, 2018, through September 30, 2019:

Producer and exporter | Weighted- average dumping margin (percent)
Habas Sinai ve Tibbi Gazlar Istihsal Endustrisi A.S | 21.48

Review-Specific Average Rate Applicable to the Following Companies: ¹⁴

Producer and/or exporters | Weighted- average dumping margin (percent)
Cag Celik Demir ve Celik | 21.48
Habas Industrial and Medical Gases Production Industries Inc | 21.48
MMK Atakas Metalurji | 21.48
Ozkan Iron and Steel Ind | 21.48

Assessment Rates

Upon issuance of the final results, Commerce will determine, and CBP shall assess, antidumping duties on all appropriate entries covered by this review.¹⁵ The final results of this review shall be the basis for the assessment of antidumping duties on entries of merchandise covered by this review and for future deposits of estimated duties, where applicable.¹⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁵ See 19 CFR 351.212(b).

¹⁶ See section 751(a)(2)(C) of the Act.

Pursuant to 19 CFR 351.212(b)(1), where an examined respondent's weighted-average dumping margin is not zero or de minimis (i.e., less than 0.5 percent), we calculated an importer-specific ad valorem duty assessment rate based on the ratio of the total amount of dumping calculated for the U.S. sales for a given importer to the total entered value of those sales. Where the mandatory respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.

For the companies that were not selected for individual examination, we will instruct CBP to assess antidumping duties at an ad valorem rate equal to each company's weighted-average dumping margin determined in the final results of this review.

For entries of subject merchandise during the POR produced by Habas for which it did not know that its merchandise was destined for the United States and for all entries attributed to the companies that we find had no shipments during the POR, we will instruct CBP to liquidate such unreviewed entries pursuant to the reseller policy,¹⁷ i.e., the assessment rate for such entries will be equal to the all-others rate established in the investigation (i.e., 2.73 percent),¹⁸ if there is no rate for the intermediate company(ies) involved in the transaction.

¹⁷ See Antidumping and Countervailing Duty Proceedings: Assessment of Antidumping Duties, 68 FR 23954 (May 6, 2003).

¹⁸ See Timken Notice.

Cash Deposit Requirements

The following deposit requirements will be effective for all shipments of the subject merchandise entered, or withdrawn from warehouse, for consumption on or after the publication date of the final results of this administrative review, as provided by section 751(a)(2)(C) of the Act: (1) The cash deposit rate for each specific company listed above will be equal to each company's weighted-average dumping margin established in the final results of this review, (except if the ad valorem rate is de minimis within the meaning of 19 CFR 351.106(c)(1), in which case the cash deposit rate will be zero); (2) for previously investigated companies not participating in this review, the cash deposit will continue to be the company-specific rate published for the most recently completed segment of this proceeding in which the company participated; (3) if the exporter is not a firm covered in this review, or the underlying investigation, but the producer is, then the cash deposit rate will be the rate established for the completed segment for the most recent POR for the producer of the merchandise; and (4) the cash deposit rate for all other producers or exporters will continue to be 2.73 percent, the all-others rate established in the underlying investigation.¹⁹

¹⁹ See Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020).

These deposit requirements, when imposed, shall remain in effect until further notice.

Disclosure and Public Comment

Commerce intends to disclose the calculations performed in connection with these preliminary results to interested parties within five days after the date of publication of this notice in accordance with 19 CFR 351.224(b).

Interested parties may submit case briefs no later than 30 days after the date of publication of this notice.²⁰ Rebuttal briefs, limited to issues raised in the case briefs, may be filed not later than seven days after the time limit for filing case briefs.²¹ Parties who submit case briefs or rebuttal briefs in this proceeding are encouraged to submit with each argument: (1) A statement of the issue; (2) a brief summary of the argument; and (3) a table of authorities.²² Executive summaries should be limited to five pages total, including footnotes. Case and rebuttal briefs should be filed using ACCESS and must be served on interested parties.²³ Note that Commerce has temporarily modified certain of its requirements for serving documents containing business proprietary information, until further notice.²⁴

²⁰ See 19 CFR 351.309(c)(1)(ii); see also 19 CFR 351.303 (for general filing requirements).

²¹ See 19 CFR 351.309(d)(1).

²² See 19 CFR 351.309(c)(2) and (d)(2).

²³ See 19 CFR 351.303.

²⁴ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. Hearing requests should contain: (1) The party's name, address, and telephone number; (2) the number of participants; and (3) a list of issues to be discussed. Issues raised in the hearing will be limited to issues raised in the briefs. If a request for a hearing is made, Commerce intends to hold the hearing at a time and date to be determined.²⁵ Parties should confirm by telephone the date, time, and location of the hearing two days before the scheduled date.

²⁵ See 19 CFR 351.310(c).

An electronically-filed request for a hearing must be received successfully in its entirety by ACCESS by 5 p.m. Eastern Time within 30 days after the date of publication of this notice.²⁶

²⁶ See 19 CFR 351.310(c); see also 19 CFR 351.303(b)(1).

Final Results of Review

Commerce intends to issue the final results of this administrative review, including the results of its analysis of issues raised in all written briefs, not later than 120 days after the publication of these preliminary results in the Federal Register pursuant to section 751(a)(3)(A) of the Act and 19 CFR 351.213(h)(1), unless otherwise extended.²⁷

²⁷ See section 751(a)(3)(A) of the Act.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, and 19 CFR 351.221(b)(4).

Dated: February 17, 2021.
Christian Marsh,
Acting Assistant Secretary for Enforcement and Compliance.

Appendix

List of Topics Discussed in the Preliminary Decision Memorandum

I. Summary

II. Background

III. Scope of the Order

IV. Preliminary Determination of No Shipments

V. Companies Not Selected for Individual Examination

VI. Period of Review

VII. Discussion of the Methodology

VIII. Currency Conversion

IX. Recommendation

[FR Doc. 2021-03783 Filed 2-23-21; 8:45 am]

BILLING CODE 3510-DS-P